SMALL BUSINESS ADMINISTRATION

[Declaration of Disaster #3310]

State of Alabama

As a result of the President's major disaster declaration on December 18, 2000, I find that the following Counties in the State of Alabama constitute a disaster area due to damages caused by severe storms and tornadoes that occurred beginning on December 16, 2000 and continuing: Dale, Etowah, Geneva, Henry, Houston, Limestone, Macon, St. Clair and Tuscaloosa Counties. Applications for loans for physical damage as a result of this disaster may be filed until the close of business on February 16, 2001 and for economic injury until the close of business on September 18, 2001 at the address listed below or other locally announced locations: U.S. Small Business Administration, Disaster Area 2 Office, One Baltimore Place, Suite 300, Atlanta, GA 30308.

In addition, applications for economic injury loans from small businesses located in the following contiguous counties may be filed until the specified date at the above location: Barbour, Bibb, Blount, Bullock, Calhoun, Cherokee, Coffee, Covington, De Kalb, Elmore, Fayette, Greene, Hale, Jefferson, Lauderdale, Lawrence, Lee, Madison, Marshall, Montgomery, Morgan, Pickens, Pike, Russell, Shelby, Talladega, Tallapoosa, and Walker Counties in Alabama; Holmes, Jackson, and Walton Counties in Florida; Clay, Early, Quitman, and Seminole Counties in Georgia; and Lincoln and Giles Counties in Tennessee.

The interest rates are:

| Percent
For Physical Damage:
Homeowners wIth credit available elsewhere | 7.000
Homeowners without credit available elsewhere | 3.500
Businesses with credit available elsewhere | 8.000
Businesses and non-profit organizations without credit available elsewhere | 4.000
Others (Including non-profit organizations) with credit available elsewhere | 7.000
For Economic Injury:
Businesses and small agricultural cooperatives without credit available elsewhere | 4.000

The number assigned to this disaster for physical damage is 331012. For economic injury, the numbers are 9K0200 for Alabama, 9K0300 for Florida, 9K0400 for Georgia, and 9K0500 for Tennessee.

(Catalog of Federal Domestic Assistance Program Nos. 59002 and 59008).
Dated: December 21, 2000.
Herbert L. Mitchell,
Acting Associate Administrator for Disaster Assistance.

[FR Doc. 00-33198 Filed 12-27-00; 8:45 am]

BILLING CODE 8025-01-P